DEPARTMENT OF TRANSPORTATION

Pipeline and Hazardous Materials Safety Administration

[Docket No. PHMSA-2025-0011]

Pipeline Safety: Request for Special Permit; Natural Gas Pipeline Company of America (NGPL)

AGENCY: Pipeline and Hazardous Materials Safety Administration (PHMSA); U.S. Department of Transportation (DOT).

ACTION: Notice.

SUMMARY: PHMSA is publishing this notice to solicit public comments on a request for a special permit for 16 special permit segments submitted by Natural Gas Pipeline Company of America, LLC (NGPL), a subsidiary of Kinder Morgan, Inc. NGPL is seeking relief from compliance with certain requirements in the Federal pipeline safety regulations. PHMSA has proposed conditions to ensure the special permit is not inconsistent with pipeline safety. At the conclusion of the 30-day comment period, PHMSA will review the comments received from this notice as part of its evaluation to grant or deny the special permit request.

DATES: Submit any comments regarding this special permit request by May 21, 2025.

ADDRESSES: Comments should reference the docket number for this special permit request and may be submitted in the following ways:

• E-Gov Website: https://www.regulations.gov. This site allows the public to enter comments on any Federal Register notice issued by any agency.

Fax: 1-202-493-2251.

Mail: Docket Management System: U.S. Department of Transportation, Docket Operations, M-30, West Building Ground Floor, Room W12-140, 1200 New Jersey Avenue SE, Washington, DC 20590.

Hand Delivery: Docket Management System: U.S. Department of Transportation, Docket Operations, M-30, West Building Ground Floor, Room W12-140, 1200 New Jersey Avenue SE, Washington, DC 20590, between 9 a.m. and 5 p.m., Monday through Friday, except Federal holidays.

Instructions: You should identify the docket number for the special permit request you are commenting on at the beginning of your comments. If you submit your comments by mail, please submit two (2) copies. To receive confirmation that PHMSA has received your comments, please include a self-addressed stamped postcard. Internet users may submit comments at https://www.regulations.gov.

Note: There is a privacy statement published on https://www.regulations.gov. Comments, including any personal information provided, are posted without changes or edits to https://www.regulations.gov.

Confidential Business Information: Confidential Business Information (CBI) is commercial or financial information that is both customarily and treated as private by its owner. Under the Freedom of Information Act (FOIA) (5 U.S.C. 552), CBI is exempt from public disclosure. If your comments responsive to this notice contain commercial or financial information that is customarily treated as private, that you treat as private, and that is relevant or responsive to this notice, it is important that you clearly designate the submitted comments as CBI. Pursuant to 49 Code of Federal Regulations (CFR) 190.343, you may ask PHMSA to give confidential treatment to information you give to the agency by taking the following steps: (1) mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Lee Cooper, DOT, PHMSA-PHP-80, 1200 New Jersey Avenue SE, Washington, DC 20590-0001. Any commentary PHMSA receives that is not specifically designated as CBI will be placed in the public docket for this matter.

FOR FURTHER INFORMATION CONTACT:

General: Mr. Lee Cooper by telephone at 202-913-3171, or by email at lee.cooper@dot.gov.

Technical: Ms. Gabrielle St. Pierre by telephone at 907-202-0029, or by e-mail at gabrielle.st.pierre@dot.gov.

SUPPLEMENTARY INFORMATION: PHMSA received a special permit request from Natural Gas Pipeline Company of America, LLC (NGPL), a subsidiary of Kinder Morgan, Inc, on August 29, 2024 seeking to deviate from the Federal pipeline safety regulations in 49 CFR 192.611 and 192.619, for 16 special permit segments (SPSs) which include 54,744 feet (approximately 10.37 miles) of the NGPL natural gas transmission pipeline system named Louisiana Line #2 located in Montgomery, Harris, and Liberty counties, Texas.

Due to class location changes from Class 1 to Class 3 in 2007, NGPL lowered the maximum allowable operating pressure (MAOP) as required by 49 CFR 192.611, from 1,100 pounds per square inch gauge (psig) to 936 psig. However, NGPL now seeks to increase the pressure on the line to restore the previous MAOP using 49 CFR 192.555.

NPGL has taken proactive measures in consultation with PHMSA to assess integrity of the line and maintain pipeline and public safety including:

• In 2023, NGPL completed in-line inspection (ILI) of the entire special permit inspection area with caliper, inertial measurement unit, and magnetic flux leakage—axial (MFL-A). All MFL-A and deformation ILI inspections were performed using high resolution metal loss and slope deformation tools.

• The SPSs and overall SPIA have been pressure tested to at least 90 percent specified minimum yield strength (SMYS) and 1.25 times MAOP as recently as 2024. Some portions were taken to a level of 1.39 times MAOP or 100 percent SMYS.

The draft conditions were preliminarily determined to ensure the special permit is not inconsistent with pipeline safety. The requested SPSs are as follows:

SPS No. | County, state | Outside diameter (inches) | Line name | Length (feet) | Year installed
694 | Montgomery County, TX | 30 | Louisiana Line #2 | 1,480.84 | 1978
695 | Montgomery County, TX | 30 | Louisiana Line #2 | 1,158.50 | 1978
696 | Montgomery County, TX | 30 | Louisiana Line #2 | 495.70 | 1978
697 | Montgomery County, TX | 30 | Louisiana Line #2 | 596.70 | 1978
698 | Montgomery County, TX | 30 | Louisiana Line #2 | 925.90 | 1978
699 | Montgomery County, TX | 30 | Louisiana Line #2 | 1,018.90 | 1978
700 | Montgomery County, TX | 30 | Louisiana Line #2 | 1,692.90 | 1978
701 | Montgomery County, TX | 30 | Louisiana Line #2 | 723.50 | 1978
702 | Montgomery County, TX | 30 | Louisiana Line #2 | 8,316.37 | 1978
711 | Harris and Liberty Counties, TX | 30 | Louisiana Line #2 | 6,946.22 | 1978
717 | Liberty County, TX | 30 | Louisiana Line #2 | 2,703.20 | 1978
716 | Liberty County, TX | 30 | Louisiana Line #2 | 7,570.28 | 1976
703 | Liberty County, TX | 30 | Louisiana Line #2 | 9,318.67 | 1974
718 | Liberty County, TX | 30 | Louisiana Line #2 | 1,300.17 | 1978
704 | Liberty County, TX | 30 | Louisiana Line #2 | 4,143.38 | 1974
705 | Liberty County, TX | 30 | Louisiana Line #2 | 6,352.75 | 1974

The special permit request, draft proposed special permit with conditions, and Draft Environmental Assessment (DEA) for the above-described NGPL pipeline segments are available for review and public comment in Docket No. PHMSA-2025-0011. PHMSA invites interested persons to review and submit comments in the docket on the special permit request, draft proposed special permit with attachments, and DEA. Please submit comments on any potential safety, environmental, and other relevant considerations implicated by the special permit request. Comments may include relevant data.

Before issuing a decision on the special permit request, PHMSA will evaluate all comments received on or before the comment closing date. Comments received after the closing date will be evaluated if it is possible to do so without incurring additional expense or delay. PHMSA will consider each relevant comment it receives in making its decision to grant or deny this special permit request.

Issued in Washington, DC, under authority delegated in 49 CFR 1.97.
Alan K. Mayberry,
Associate Administrator for Pipeline Safety.

[FR Doc. 2025-06777 Filed 4-18-25; 8:45 am]

BILLING CODE 4910-60-P